DEPARTMENT OF TRANSPORTATION

Federal Railroad Administration

[Docket Number FRA-2018-0049]

Petition for Waiver of Compliance

Under part 211 of title 49 Code of Federal Regulations (CFR), this document provides the public notice that on April 15, 2020, BNSF Railway (BNSF) petitioned the Federal Railroad Administration (FRA) for an expansion of its waiver of compliance from certain provisions of the Federal railroad safety regulations contained at 49 CFR 232.15, 232.213, and 232.103(f). On April 12, 2019, FRA granted BNSF a test waiver to conduct a pilot program on a segment of their system to “demonstrate that the use of wheel temperature detectors to prove brake health effectiveness (BHE) will improve safety, reduce risks to employees, and provide cost savings to the industry.” FRA assigned the petition Docket Number FRA-2018-0049.

BNSF states the test waiver committee for BHE has been actively reviewing the data generated by BNSF over the past 6 months, and during that time BNSF has tested more than 600 trains. In building on the test success of the Southern Transcon trains between Chicago, IL, and California, BNSF requests FRA approval of two expansion initiatives which were each reviewed and approved by the test waiver committee: (1) The addition of additional origin/destination Southern Transcon locations; and (2) expansion to the BNSF Northern Intermodal route through Havre, MT.

BNSF requests adding the following locations to its test waiver on the Southern Transcon to increase the braking improvements on the intermodal equipment, increase the number of waiver trains, and enable more locations to complete the automatic single car tests (ASCT). These locations may be an origination or destination point for an intermodal train that qualifies under conditions of the waiver and will pass through the existing test detector sites on either side of Belen, NM: Phoenix, AZ; Alliance, TX; Houston, TX; Logistics Park, Kansas City, KS; Memphis, TN; Atlanta, GA; St. Louis, MO; Omaha, NE; Amarillo, TX; Lubbock, TX; and Albuquerque, NM. These locations would be subject to the same requirements for the training completion of all related work groups and would not be “turned on” until the training records are provided to the test waiver committee.

BNSF has installed and is currently testing new detectors with its proven technology on BNSF's Northern Intermodal route. These detectors were installed to continue the BHE testing in a cold weather climate. BNSF proposes that the processes and parameters would follow all conditions of the Southern Transcon BHE Program.

BNSF states the expansion of the test waiver for both the Southern and Northern proposals would accomplish all the following:

1. Validation of braking performance of trains on BNSF's Northern Transcon Route;

2. Improve the braking performance of individual cars identified with cold or hot wheels;

3. Increase the testing of car brake systems with ASCT devices;

4. Increase the removal of poor performing brake valves identified by the ASCT;

5. Generate important data on air brake valve performance in a cold weather environment which cannot be done on the Southern Transcon Intermodal testing; and

6. Begin the process of associating brake valve age with BHE data performance from both the test site and the point/location when the ASCT is completed.

A copy of the petition, as well as any written communications concerning the petition, is available for review online at www.regulations.gov and in person at the U.S. Department of Transportation's (DOT) Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Ave. SE, W12-140, Washington, DC 20590.

• Hand Delivery: 1200 New Jersey Ave. SE, Room W12-140, Washington, DC 20590, between 9 a.m. and 5 p.m., Monday through Friday, except Federal Holidays.

Communications received by May 26, 2020 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to http://www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety Chief Safety Officer.

[FR Doc. 2020-08577 Filed 4-22-20; 8:45 am]

BILLING CODE 4910-06-P